DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on April 27, 2016.
Don Burger,
Chief, Special Permits and Approvals Branch.

Modification Special Permit Granted
S.P. No. | Applicant | Regulation(s) | Nature of special permit thereof
14437-M | Columbiana Boiler Company (CBCo) LLC Columbiana, OH | 49 CFR 179.300 | To modify the special permit to authorize an additional manufacturing specification CBC 106W and the removal or clarification of language inconsistent with 179.300-19.
9847-M | FIBA Technologies, Inc. Millbury, MA | 49 CFR 180.209(a), 180.205(c), (f), (g), and (i), 173.302a(b)(2), (3), (4), and (5), and 180.213 | To modify the special permit to authorize DOT Specification 3AAX-6000 seamless steel cylinders to be requalified by acoustic emission and ultrasonic examinations (AE/UE).
14799-M | Takata Sachsen GmbH GroBweitzschen | 49 CFR 173.301(a) and 173.302a | To modify the shipping description for UN3268 and add the description Safety devices, pyrotechnic, Division 1.4G, UN0503.
16514-M | Robert Bosch Tool Corporation Mt. Prospect, IL | 49 CFR 172.301(c), 173.185(c)(1)(iii), 173.185(c)(3)(i) | To modify the special permit to increase the watt-hour (Wh) rating of lithium ion cells and batteries from 20 Wh to 60 Wh for cells and from 100 Wh to 300 Wh for batteries.
16061-M | Battery Solutions, LLC Howell, MI | 49 CFR 172.200, 172.300, 172.400 | To modify the special permit to authorize dry cell batteries each with a marked rating up to 12 volts to be transported without short circuit protection; to increase the quantity of lithium metal authorized in each battery from 5 grams to 25 grams; to increase the weight of each non-spillable battery authorized from 11 pounds to 25 pounds; and to correct the Packing Groups in paragraph 6.
14298-M | Air Products and Chemicals, Inc. Allentown, PA | 49 CFR 180.209(a) and (b) | To modify the special permit to authorize DOT specification 3A or 3AA tubes with a capacity greater than 125 lbs mounted in an ISO or tube trailer frame to not be removed from bundles or be hammer tested prior to refilling and to align the markings requirements for ISO or tube trailer frame mounted DOT specification 3A or 3AA cylinders with those for DOT 3A, 3AA, 3AX, 3AAX or 3T cylinders in tube trailers.
14453-M | FIBA Technologies, Inc. Millbury, MA | 49 CFR 180.209 | To modify the special permit to authorize an additional Division 2.2 material.
16531-M | NVIDIA Corporation Santa Clara, CA | 49 CFR 173.185(c)(3); 173.185(f) | To modify the special permit originally issued on an emergency basis to authorize an additional two years.
11378-M | National Aeronautics and Space Administration (NASA) Washington, DC | 49 CFR 173.201; 173.226; 173.227; 178.61-5; 178.61-20; 173.40 | To modify the special permit to authorize an additional hazardous material.
16624-M | AREVA Inc. Richland, WA | 49 CFR 173.301(a)(1) | To modify the special permit originally issued on an emergency basis to authorize an additional two years and clarify certain requirements contained in paragraph 7, safety control measures.
15691-M | Department of Defense Scotts AFB, IL | 49 CFR 180.209 | To modify the special permit to authorize clarifying the requirements for the purpose and limitation and safety control measures.
NEW SPECIAL PERMIT GRANTED
16001-N | VELTEK Associates, Inc. Malvern, PA | 49 CFR parts 100-180 | To authorize exceptions to specification packaging, marking and labeling requirements for certain isopropyl alcohol formulations. (modes 1, 2, 3, 4, 5)
16452-N | The Procter & Gamble Company Cincinnati, OH | 49 CFR parts 171-180 | To authorize the transportation in commerce of small quantities of certain Division 2.2 gases in small, non-refillable, plastic receptacles as not subject to the Hazardous Materials Regulations. (modes 1, 2, 3, 4, 5)
16477-N | Hydroid, Inc. Pocasset, MA | 49 CFR 173.185(e) | To authorize the transportation in commerce of certain prototype and low production lithium ion batteries contained in equipment. (modes 1, 2, 3)
16598-N | Spaceflight, Inc. Tukwila, WA | 49 CFR 173.185(a)(1) | To authorize the one-time transportation in commerce of three low production lithium ion batteries contained in equipment (SHERPA spacecraft) that are not of a type proven to meet the criteria in Part III, sub-section 38.3 of the UN Manual of Tests and Criteria. (mode 1)
16606-N | 5-State Helicopters, Inc. Royse City, TX | 49 CFR 172.101 Hazardous Materials Table Column (9B), Subpart C of Part 172, 172.301(c), 175.30 | To authorize the transportation in commerce in the U.S. only of certain hazardous materials by 14 CFR part 133 Rotorcraft External Load Operations transporting hazardous materials attached to or suspended from an aircraft. Such transportation is in support of construction operations when the use of cranes or other lifting devices is impracticable or unavailable or when aircraft is the only means of transportation, without being subject to certain hazard communication requirements, quantity limitations, packaging and loading and storage requirements. (mode 4)
16612-N | Unipart North America Limited Oxford, United Kingdom | 49 CFR 172.102(c), Special Provision A54, ICAO TI Special Provision A99 | To authorize the transportation in commerce of lithium ion batteries exceeding the 35 kg maximum weight per package aboard cargo aircraft only. (mode 4)
Denied
8451-M | Request by Veolia ES Technical Solutions, L.L.C. Flanders, NJ March 04, 2016. To modify the special permit to authorize transportation to a final disposal facility

[FR Doc. 2016-10935 Filed 5-11-16; 8:45 am]

BILLING CODE 4909-60-M